DEPARTMENT OF TRANSPORTATION

Federal Motor Carrier Safety Administration

[Docket No. FMCSA-2024-0109]

Agency Information Collection Activities; Request Approval of a New Information Collection: FMCSA Registration System (FRS)

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval for a new ICR titled “FMCSA Registration System (FRS)”. FMCSA is replacing its Unified Registration System (URS), with a new, online registration system, which will be named the “FMCSA Registration System” (FRS). The new system will allow all persons required to register under the Agency's commercial or safety jurisdiction to do so online. Specifically, this new ICR will apply to: new registrants applying for safety and/or operating authority registration for the first time from FMCSA; existing registrants (i.e., entities that already have a USDOT number and/or operating authority) that are subject to FMCSA's registration and certification regulations that wish to apply for additional authorities; Mexico-domiciled carriers that wish to operate beyond the U.S. municipalities on the U.S.-Mexico border and their commercial zones; registrants seeking to process name changes, address changes, and reinstatements of operating authority for motor carriers, freight forwarders, and brokers; registrants which are requesting to voluntarily suspend their safety and/or operating authority registration with FMCSA; and motor carriers, brokers and freight forwarders that must designate an agent on whom service of notices in proceedings before the Secretary may be made. It will also apply to designated agents and those entities providing proof of financial responsibility requirements, such as insurance companies and bond agents.

DATES: Comments on this notice must be received on or before June 18, 2024.

ADDRESSES: You may submit comments identified by Federal Docket Management System Docket Number FMCSA-2024-0109 using any of the following methods:

• Federal eRulemaking Portal: https://www.regulations.gov. Follow the online instructions for submitting comments.

• Fax: (202) 493-2251.

• Mail: Dockets Operations; U.S. Department of Transportation, 1200 New Jersey Avenue SE, West Building, Ground Floor, Washington, DC 20590-0001.

• Hand Delivery or Courier: U.S. Department of Transportation, 1200 New Jersey Avenue SE, West Building, Ground Floor, Washington, DC 20590-0001 between 9 a.m. and 5 p.m. ET, Monday through Friday, except Federal holidays.

FOR FURTHER INFORMATION CONTACT: Mr. Jeff Secrist, Office of Registration, Chief, Registration Division, DOT, FMCSA, West Building 6th Floor, 1200 New Jersey Avenue SE, Washington, DC 20590-0001; 202-385-2367; jeff.secrist@dot.gov.

SUPPLEMENTARY INFORMATION:

Instructions: All submissions must include the Agency name and docket number. For detailed instructions on submitting comments, see the Public Participation heading below. Note that all comments received will be posted without change to https://www.regulations.gov, including any personal information provided. Please see the Privacy Act heading below.

Docket: For access to the docket to read background documents or comments received, go to https://www.regulations.gov, and follow the online instructions for accessing the docket, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: To submit your comment online, go to https://www.regulations.gov/docket/FMCSA-2024-0109/document, click on this notice, click “Comment,” and type your comment into the text box on the following screen.

If you submit your comments by mail or hand delivery, submit them in an unbound format, no larger than 8½ by 11 inches, suitable for copying and electronic filing.

Background: FMCSA registers for-hire motor carriers of regulated commodities and of passengers, under 49 United States Code (U.S.C.) 13902(a); surface freight forwarders, under 49 U.S.C. 13903; property brokers, under 49 U.S.C. 13904; certain Mexico-domiciled motor carriers, under 49 U.S.C. 13902(c), and cargo tank motor vehicle manufacturers, assemblers, repairers, inspectors, testers, and design certifying engineers under 49 U.S.C. 5121a, 49 CFR 1.87, and 49 CFR part 107, subpart F. These motor carriers may conduct transportation services in the United States only if they are registered with FMCSA. Each registration is effective from the date specified and remains in effect for such period as the Secretary of Transportation (Secretary) determines by regulations.

Motor carriers, freight forwarders, and property brokers are required to request a name or address change and to request reinstatement of a revoked operating authority. Procedures for changing the name or business form of a motor carrier, freight forwarder, or property broker (49 CFR 365.413T) states that motor carriers, forwarders, and brokers must submit the required information to FMCSA's Office of Registration requesting the change.

Subsection (d) of 49 U.S.C. 13905 also provides that on application of the registrant, the Secretary may amend or revoke a registration, and hence the registrant's operating authority. These registrants may apply to voluntarily revoke their operating authority or parts thereof. If the registrant fails to maintain evidence of the required level of insurance coverage on file with FMCSA, its operating authority will be revoked involuntarily. Although the effect of both types of revocation is the same, some registrants prefer to request voluntary revocation. For various business reasons, a registrant may request revocation of part, but not all, of its operating authority.

Registered motor carriers, brokers and freight forwarders must designate an agent on whom service of notices in proceedings before the Secretary may be made (49 U.S.C. 13303). Registered motor carriers must also designate an agent for every State in which they operate and traverse in the United States during such operations, on whom process issued by a court may be served in actions brought against the registered motor carrier (49 U.S.C. 13304, 49 CFR 366.4T). Every broker shall make a designation for each State in which its offices are located or in which contracts are written (49 U.S.C. 13304, 49 CFR 366.4T). Regulations governing the designation of process agents are found at 49 CFR part 366.

FMCSA requests information to identify the applicant, the nature and scope of its proposed operations, safety-related details, and information regarding the drivers and vehicles it plans to use in U.S. operations. FMCSA and the States use registration information collected to track motor carriers, freight forwarders, brokers, and other entities they regulate. Registering motor carriers is essential to being able to identify carriers so that their safety performance can be tracked and evaluated. The data makes it possible to link individual trucks to the responsible motor carrier, thus implementing the mandate under 49 U.S.C. 31136(a)(1); that is, ensuring that commercial motor vehicles are maintained and operated safely. In general, registration information collected informs prioritization of the Agency's activities and aids in assessing and statistically analyzing the safety outcomes of those activities.

The final rule titled “Unified Registration System,” (78 FR 52608) dated August 23, 2013, implemented statutory provisions for an online registration system for entities that are subject to FMCSA's licensing, registration, and certification regulations. When developing URS, FMCSA planned that the OP-1 series of forms (except for OP-1(MX)) would ultimately be folded into one overarching form (MCSA-1), which would be used by all motor carriers seeking authority.

FMCSA began a phased rollout of URS in 2015. The first phase, which became effective on December 12, 2015, impacted only first-time applicants seeking an FMCSA-issued registration. FMCSA had planned subsequent rollout phases for existing registrants; however, there were substantial delays, and subsequent phases have not been rolled out to date. On January 17, 2017, FMCSA issued a final rule titled “Unified Registration System; Suspension of Effectiveness,” which indefinitely suspended URS effectiveness dates for existing registrants only (82 FR 5292).

Pursuant to this final rule, FMCSA was accepting forms OP-1, OP-1(P), OP-1(FF), and OP-1(NNA) for existing registrants wishing to apply for additional authorities. Separately, FMCSA requires Form OP-1(MX) for Mexico-domiciled carriers that wish to operate beyond the U.S. municipalities on the U.S.-Mexico border and their commercial zones. Forms in the OP-1 series request information to identify the applicant, the nature and scope of its proposed operations, a narrative description of the applicant's safety policies and procedures, and information regarding the drivers and vehicles it plans to use in U.S. operations. The OP-1 series also requests information on the applicant's familiarity with relevant safety requirements, the applicant's willingness to comply with those requirements during its operations, and the applicant's willingness to meet any specific statutory and regulatory requirements applicable to its proposed operations. Information collected through these forms aids FMCSA in determining the type of operation a company may run, the cargo it may carry, and the resulting level of insurance coverage the applicant will be required to obtain and maintain to continue its operating authority.

In addition, FMCSA accepted Form MCS-150 (Motor Carrier Identification Report, Application for USDOT Number), Form MCS-150B (Combined Motor Carrier Identification Report and Hazardous Materials Permit Application), and MCS-150C (Intermodal Equipment Provider Identification Report, Application for USDOT Number). Title 49, U.S.C. 504(b)(2) provides the Secretary with authority to require carriers, lessors, associations, or classes of these entities to file annual, periodic, and special reports containing answers to questions asked by the Secretary. Existing registrants use the MCS-150 or MCS-150B to update their information in the Motor Carrier Management Information System, while applicants filing for the first time were required to file on-line using URS. Form MCS-150 or MCS-150B is also used for Mexico-domiciled carriers that seek authority to operate beyond the United States municipalities on the United States-Mexico border and their commercial zones.

Registered motor carriers, brokers, and freight forwarders must designate an agent on whom service of notices in proceedings before the Secretary may be made through filing the Form BOC-3, Designation of Agents for Service of Process. Registered motor carriers must designate an agent for every State in which they operate and traverse in the United States during such operations, on whom process issued by a court may be served in actions brought against the registered motor carrier (49 U.S.C. 13304, 49 CFR 366.4T). Every broker must also make a designation for each State in which its offices are located or in which contracts are written (49 U.S.C. 13304, 49 CFR 366.4T).

New Collection: As described above, only first-time applicants seeking an FMCSA-issued registration must apply for authority via URS, while existing registrants used several forms to update their information, apply for additional authorities, and designate process agents. Under the new FRS, all forms described above will be integrated into the online system through a series of questions that will be asked, using smart logic. The only exception will be the Form OP-2, Application for Mexican Certificate of Registration for Foreign Motor Carriers and Foreign Motor Private Carriers under 49 U.S.C. 13902. Information collection activities associated with the Form OP-2 are covered under a different ICR, titled “Application for Certificate of Registration for Foreign Motor Carriers and Foreign Motor Private Carriers,” OMB Control No. 2126-0019, which will continue in effect.

This new ICR impacts several currently approved collections of information, listed below. However, until the new FRS is completed, FMCSA cannot estimate the burden, in hours or expense, that FRS users will be required to endure in comparison to the burdens associated for the approved collections listed below. FMCSA is developing FRS in such a way as to save users as much time as possible. However, FMCSA expects that, at worst, the time and effort required to complete an application, update, or process agent designation in FRS will be the same as it is to complete in the URS or using a paper form. Thus, for purposes of this new collection, FMCSA assumes the same time and cost burdens as were previously listed in the approved collections. In the future, during routine renewals and/or revisions for this new collection, and as FMCSA gathers information on average time per transaction in FRS, FMCSA expects to be able to refine these estimates.

It is expected that FMCSA will eliminate the following collections, along with all associated forms, as users will instead use the FRS to collect the information previously submitted using the listed forms. However, until FMCSA completes a regulatory change to remove reference to these forms from regulation, registrants may continue to use these forms to request the appropriate registration action.

Information collection approval No. | Information collection title | Associated forms
2126-0013 | Motor Carrier Identification Report | MCS-150, MCS-150B and MCS-150C.
2126-0015 | Designation of Agents, Motor Carriers, Brokers and Freight Forwarders | BOC-3.
2126-0016 | Licensing Applications for Motor Carriers Operating Authority | OP-1 series.
2126-0018 | Request for Revocation of Authority Granted | OCE-46.
2126-0051 | FMCSA Registration/Updates | MCSA-1.
2126-0060 | Motor Carrier Records Change Form | MCSA-5889.

The current information collection supports the DOT Strategic Goal of Safety. It streamlines registration processes and ensures that FMCSA can more efficiently track motor carriers, freight forwarders, brokers, and other entities regulated by the Agency.

Title: FMCSA Registration System.

OMB Control Number: 2126-00XX.

Type of Request: New ICR.

Respondents: Motor carriers, freight forwarders, brokers, and other entities regulated by the Agency.

Estimated Number of Respondents: 648,928.

Estimated Time per Response: Varies.

Expiration Date: This is a new ICR.

Frequency of Response: Annual.

Estimated Total Annual Burden: 417,741 Hours.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.

Kenneth H. Riddle,
Director, Office of Registration.

[FR Doc. 2024-08439 Filed 4-18-24; 8:45 am]

BILLING CODE 4910-EX-P